DEPARTMENT OF THE INTERIOR

Bureau of Land Management

[LLNMA010000 L10200000.EE0000]

Reopening the Call for Nominations for the Albuquerque District Resource Advisory Council

AGENCY: Bureau of Land Management, Interior.

ACTION: Notice.

SUMMARY: The purpose of this notice is to reopen the nomination period for the Bureau of Land Management's (BLM) Albuquerque District Resource Advisory Council (RAC) in Category 3. The Albuquerque RAC provides advice and recommendations to the BLM on land use planning and management of the public lands within the BLM's Albuquerque District.

DATES: All nominations must be received no later than December 29, 2011.

ADDRESSES: Contact Edwin Singleton, Albuquerque District Office, BLM, 435 Montano NE., Albuquerque, New Mexico 87107, (505) 761-8700.

FOR FURTHER INFORMATION CONTACT: Gina Melchor, RAC Coordinator, Albuquerque District Office, BLM, 435 Montano Road NE., Albuquerque, New Mexico 87107, (505) 761-8935, email: rmelchor@blm.gov. Persons who use a telecommunications device for the deaf (TDD) may call the Federal Information Relay Service (FIRS) at 1-(800) 877-8339 to contact the above individual during business hours. The FIRS is available 24 hours a day, 7 days a week, to leave a message or question with the above individual. You will receive a reply during normal business hours.

SUPPLEMENTARY INFORMATION: The Federal Land Policy and Management Act of 1976 (FLPMA) (43 U.S.C. 1739) directs the Secretary of the Interior (Secretary) to involve the public in planning and issues related to management of lands administered by the BLM. Section 309 of FLPMA directs the Secretary to establish 10- to 15-member citizen-based advisory councils that are consistent with the Federal Advisory Committee Act (FACA). The rules governing RACs are found at 43 CFR subpart 1784. As required by FACA, RAC membership must be balanced and representative of the various interests concerned with the management of the public lands. There is one vacancy open in category 3, representing State, county, or local elected office; representatives and employees of a State agency responsible for management of natural resources, land, or water; representatives of Indian tribes within or adjacent to the area for which the Council is organized; representatives of academia who are employed in natural resources management or the natural sciences; or the public-at-large.

Individuals may nominate themselves or others. Nominees must be residents of the State in which the RAC has jurisdiction. The BLM will evaluate nominees based on their education, training, experience, and knowledge of the geographical area of the RAC. Nominees should demonstrate a commitment to collaborative resource decision-making. The Obama Administration prohibits individuals who are currently federally registered lobbyists from being appointed or re-appointed to FACA and non-FACA boards, committees, or councils. The following must accompany all nominations:

—Letters of reference from represented interests or organizations;

—A completed background information nomination form; and

—Any other information that addresses the nominee's qualifications.

Certification Statement: I hereby certify that the BLM's Albuquerque District RAC is necessary and in the public interest in connection with the Secretary's responsibilities to manage the lands, resources, and facilities administered by the BLM.

Authority: 43 CFR 1784.4-1

Jesse Juen,
Acting State Director.

[FR Doc. 2011-30744 Filed 11-28-11; 8:45 am]

BILLING CODE 4310-FB-P